DEPARTMENT OF ENERGY

Federal Energy Regulatory Commission

[Docket No. RP06-15-001]

Garden Banks Gas Pipeline, LLC; Notice of Proposed Changes in FERC Gas Tariff

October 20, 2005.

Take notice that on October 14, 2005, Garden Banks Gas Pipeline, LLC (Garden Banks) tendered for filing as part of its FERC Gas Tariff, Original Volume No. 1, the following tariff sheets, to become effective November 7, 2005:

Ninth Revised Sheet No. 2

Ninth Revised Sheet No. 57

Third Revised Sheet No. 138

First Revised Sheet No. 139

Garden Banks states it discovered an error in the pagination of certain tariff sheets filed in this proceeding on October 7, 2005. Garden Banks states that it inadvertently erred in filing such sheets, as these sheets had been submitted previously to the Commission in FERC Docket No. RP05-453-000.

Garden Banks states that the purpose of the filing is to correct the pagination errors by tendering in this filing the above-listed tariff sheets. Garden Banks claims it has made no substantive changes to these tariff sheets.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant and all parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-5930 Filed 10-25-05; 8:45 am]

BILLING CODE 6717-01-P